DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Donor Sabbath Organ Procurement Organization Survey—New

November 10-12, 2000, will mark the fifth annual National Donor Sabbath (NDS), a time for clergy throughout the Nation to help increase awareness about the critical need for organs and tissues. In support of the 1999 NDS, the Health Resources and Services Administration, Office of Special Programs, Division of Transplantation (DoT) distributed to 61 Organ Procurement Organizations (OPO) in the U.S. more than 300,000 organ donor awareness lapel pins attached to paper backings containing NDS information. The OPOs were asked to distribute the pins to their local clergy to be used for further distribution and education of their congregation. DoT plans to replicate this activity for 2000 NDS.

While DoT believed the 1999 pin distribution to be a positive educational tool there exists a need to properly investigate the efficacy of the pins as an aid in promoting NDS. The Division wishes to examine the pin distribution in 2000 NDS in order to plan the most effective, efficient, and cost effective role for DoT in subsequent observances of NDS. Investigation will consist of requesting each OPO to complete a short survey concerning usage, distribution, and impact of the pins. This is a one-time survey.

Estimates of Annualized Hour Burden
Subjects | Number of respondents | Responses per respondent | Total responses | Hrs. per response | Total hour burden
Organ Procurement Organizations | 60 | 1 | 60 | .33 | 20

Send comments to Susan G. Queen, Ph.D., HRSA Reports Clearance Officer, Room 14-33, Parklawn Building, 5600 Fishers Lane, Rockville, MD 20857. Written comments should be received within 60 days of this notice.

Dated: April 13, 2000.
Jane Harrison,
Director, Division of Policy Review and Coordination.

[FR Doc. 00-9757 Filed 4-18-00; 8:45 am]

BILLING CODE 4160-15-P